DEPARTMENT OF HEALTH AND HUMAN SERVICES

National Institutes of Health

Statement of Delegation of Authority

Notice is hereby given that I have delegated to the Director, National Institutes of Health, the authorities under Public Law 106-310 (Children's Health Act of 2000), title I, section 104 (a) and (c) as amended, to establish and to administer the Autism Coordinating Committee. I am also delegating the authority under title I, section 104(b)(1) to select as members of the Committee, such Directors of national research institutes and the Centers for Disease Control and Prevention as appropriate. I will retain the authority under title 1, section 104(b) (1) and (2) pertaining to the selection of additional members of the Committee.

This delegation shall be exercised under the Department's existing delegation of authority and policy on regulation. In addition, I ratify and affirm any actions taken by you or your subordinates which involved the exercise of the authorities delegated herein prior to the effective date of this delegation.

This delegation is effective upon date of signature.

Dated: April 25, 2001.
Tommy G. Thompson,
Secretary.

[FR Doc. 01-11300 Filed 5-3-01; 8:45 am]

BILLING CODE 4140-01-M